DEPARTMENT OF HOMELAND SECURITY

Federal Emergency Management Agency

[Docket ID FEMA-2018-0002; Internal Agency Docket No. FEMA-B-1850]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arizona:
Maricopa | City of Chandler (18-09-0796P) | The Honorable Jay Tibshraeny, Mayor, City of Chandler, City Hall, 175 South Arizona Avenue, Chandler, AZ 85225 | Municipal Utilities Department Administration, 975 East Armstrong Way, Building L, Chandler, AZ 85286 | https://msc.fema.gov/portal/advanceSearch | Nov. 30, 2018 | 040040
Maricopa | City of Scottsdale (18-09-0983P) | The Honorable W.J. “Jim” Lane, Mayor, City of Scottsdale, City Hall, 3939 North Drinkwater Boulevard, Scottsdale, AZ 85251 | Planning Records, 7447 East Indian School Road, Suite 100, Scottsdale, AZ 85251 | https://msc.fema.gov/portal/advanceSearch | Dec. 7, 2018 | 045012
California:
Orange | City of Fullerton (17-09-2449P) | The Honorable Doug Chaffee, Mayor, City of Fullerton, 303 West Commonwealth Avenue, Fullerton, CA 92832 | City Hall, 303 West Commonwealth Avenue, Fullerton, CA 92832 | https://msc.fema.gov/portal/advanceSearch | Nov. 30, 2018 | 060219
Orange | City of Fullerton (17-09-2450P) | The Honorable Doug Chaffee, Mayor, City of Fullerton, 303 West Commonwealth Avenue, Fullerton, CA 92832 | City Hall, 303 West Commonwealth Avenue, Fullerton, CA 92832 | https://msc.fema.gov/portal/advanceSearch | Nov. 23, 2018 | 060219
Florida: Bay | Unincorporated Areas of Bay County (18-04-2878P) | Mr. Robert Majka, Jr., County Manager, Bay County, 840 West 11th Street, Panama City, FL 32401 | Bay County Planning and Zoning, 707 Jenks Avenue, Suite B, Panama City, FL 32401 | https://msc.fema.gov/portal/advanceSearch | Nov. 28, 2018 | 120004
Illinois:
Cook | City of Chicago (17-05-6422P) | The Honorable Rahm Emanuel, Mayor, City of Chicago, 121 North LaSalle Street, Room 406, Chicago, IL 60602 | Department of Buildings, Stormwater Management, 121 North LaSalle Street, Room 906, Chicago, IL 60602 | https://msc.fema.gov/portal/advanceSearch | Dec. 7, 2018 | 170074
Cook | Village of Franklin Park (17-05-6422P) | The Honorable Barrett F. Pedersen, Village President, Village of Franklin Park, 9500 Belmont Avenue, Franklin Park, IL 60131 | Village Hall, 9500 Belmont Avenue, Franklin Park, IL 60131 | https://msc.fema.gov/portal/advanceSearch | Dec. 7, 2018 | 170094
Cook | Village of Schiller Park (17-05-6422P) | The Honorable Nick Caiafa, Mayor, Village of Schiller Park, 9526 West Irving Park Road, Schiller Park, IL 60176 | Village Hall, 9526 West Irving Park Road, Schiller Park, IL 60176 | https://msc.fema.gov/portal/advanceSearch | Dec. 7, 2018 | 170159
Peoria | City of Peoria (18-05-3106P) | The Honorable Jim Ardis, Mayor, City of Peoria, 419 Fulton Street, Suite 401, Peoria, IL 61602 | Public Works Department, 3505 North Dries Lane, Peoria, IL 61604 | https://msc.fema.gov/portal/advanceSearch | Nov. 30, 2018 | 170536
Iowa:
Black Hawk | City of Waterloo (18-07-0911P) | The Honorable Quentin M. Hart, Mayor, City of Waterloo, City Hall, 715 Mulberry Street, Waterloo, IA 50703 | City Hall, 715 Mulberry Street, Waterloo, IA 50703 | https://msc.fema.gov/portal/advanceSearch | Nov. 28, 2018 | 190025
Polk | City of West Des Moines (18-07-0853P) | The Honorable Steven K. Gaer, Mayor, City of West Des Moines, City Hall, P.O. Box 65320, West Des Moines, IA 50265 | City Hall, 4200 Mills Civic Parkway, West Des Moines, IA 50265 | https://msc.fema.gov/portal/advanceSearch | Dec. 7, 2018 | 190231
Massachusetts: Middlesex | City of Melrose (18-01-0626P) | The Honorable Gail Infurna, Mayor, City of Melrose, City Hall, 562 Main Street, Melrose, MA 02176 | City of Melrose, City Hall, 562 Main Street, Melrose, MA 02176 | https://msc.fema.gov/portal/advanceSearch | Dec. 3, 2018 | 250206
Nebraska: Washington | City of Blair (18-07-0575P) | The Honorable James Realph, Mayor, City of Blair, 2532 College Drive, Blair, NE 68008 | City Hall, 218 South 16th Street, Blair, NE 68008 | https://msc.fema.gov/portal/advanceSearch | Nov. 26, 2018 | 310228
Ohio:
Fairfield | City of Lancaster (18-05-0226P) | The Honorable David S. Smith, Mayor, City of Lancaster, 104 East Main Street Room 101, Lancaster, OH 43130 | Municipal Building, 121 East Chestnut Street, Suite 100, Lancaster, OH 43130 | https://msc.fema.gov/portal/advanceSearch | Nov. 20, 2018 | 390161
Fairfield | Unincorporated Areas of Fairfield County (18-05-0226P) | The Honorable Dave Levacy, Chairman, Fairfield County Board of Commissioners, 210 East Main Street, Room 301, Lancaster, OH 43130 | Fairfield County, Regional Planning Commission, 210 East Main Street, Room 104, Lancaster, OH 43130 | https://msc.fema.gov/portal/advanceSearch | Nov. 20, 2018 | 390158
Lucas | City of Toledo (18-05-2876P) | The Honorable Wade Kapszukiewicz, Mayor, City of Toledo, 1 Government Center, 640 Jackson Street, Suite 2200, Toledo, OH 43604 | Department of Inspections, 1 Government Center Suite 1600, Toledo, OH 43604 | https://msc.fema.gov/portal/advanceSearch | Nov. 30, 2018 | 395373

[FR Doc. 2018-21015 Filed 9-26-18; 8:45 am]

BILLING CODE 9110-12-P